DEPARTMENT OF THE INTERIOR

National Indian Gaming Commission

25 CFR Parts 542 and 543

RIN 3141-AA-37

Minimum Internal Control Standards for Class II Gaming

AGENCY: National Indian Gaming Commission.

ACTION: Delay of effective date of final rule; request for comments.

SUMMARY: The National Indian Gaming Commission (“NIGC”) announces the extension of the effective date on the final rule for Minimum Internal Control Standards for Class II Gaming. The final rule was published in the Federal Register on October 10, 2008 (73 FR 60492). The Commission is changing the effective date for the amendments to §§ 542.7 and 542.16 (and their renumbering as §§ 543.7 and 543.16), as well as the date for operations to implement tribal internal controls found in § 543.3(c)(3) to October 13, 2011, in order to extend the transition time, allow the new Commission time to thoroughly review the rule, and to receive comment on whether the rule should be amended in whole or in part.

DATES: The effective date for the amendments to §§ 542.7 and 542.16 for the final rule published October 10, 2008, 73 FR 60492, and delayed on October 9, 2009, 74 FR 52138, is further delayed from October 13, 2010, until October 13, 2011. The effective date for the amendment to § 543.3(c)(3) in this rule is October 13, 2011. Submit comments on or before November 9, 2010.

ADDRESSES: Mail comments to “Comments on Class II MICS”, National Indian Gaming Commission, 1441 L St., NW., Suite 9100, Washington, DC 20005, attn: Jennifer Ward. Comments may be transmitted by facsimile to 202-632-7066, but the original should also be submitted by mail. Comments may also be sent electronically to 2008_MICS_comments@nigc.gov or posted at http://www.regulations.gov under this notice.

FOR FURTHER INFORMATION CONTACT: Jennifer Ward, Attorney, Office of General Counsel, at (202) 632-7003; fax (202) 632-7066 (not toll-free numbers).

SUPPLEMENTARY INFORMATION: Congress established the National Indian Gaming Commission under the Indian Gaming Regulatory Act of 1988 (25 U.S.C. 2701-21) (“IGRA”) to regulate gaming on Indian lands. The NIGC issued a final rule that superseded specified sections of established Minimum Internal Control Standards and replaced them with a new part titled Minimum Internal Control Standards Class II Gaming, that was published in the Federal Register on October 10, 2008 (73 FR 60492). The final rule provided an effective date for amendments to §§ 542.7 and 542.16 of October 13, 2009. An extension delayed the effective date of the amendments until October 13, 2010. 74 FR 52138, October 9, 2009. The NIGC is again extending the effective date of these amendments to October 13, 2011. The rule at § 543.3(c)(3) also set a deadline of within six months of the date the tribal gaming regulatory authorities' enactment of tribal internal controls for tribal operators to come into compliance with tribal internal controls. This deadline has likewise been extended to October 13, 2011.

As explained in the preamble to the final rule (73 FR 60492 (October 10, 2008)), the Commission intended these amendments to be the first part of a multi-phase process of establishing separate MICS for class II gaming and that the extended effective date would provide the necessary time to complete this process. On October 9, 2009, the Commission extended the effective date of the amendments until October 13, 2010, anticipating that all phases of the process would then be complete and that a final comprehensive set of class II MICS would take effect at that time. 74 FR 52138 (October 9, 2009). The NIGC is extending the effective date of these amendments to October 13, 2011, to allow time for the transition as contemplated by the final rule.

List of Subjects in 25 CFR Part 543

Administrative practice and procedure, Gambling, Indians—lands, Reporting and recordkeeping requirements.

For the reasons set forth above, under the authority at 25 U.S.C. 2701, 2702, 2706, et seq., the effective date for the amendments to §§ 542.7 and 542.16 for the final rule published October 10, 2008, 73 FR 60492, is delayed from October 13, 2010, until October 13, 2011 and 25 CFR Part 543 is amended as set forth below:

PART 543—MINIMUM INTERNAL CONTROL STANDARDS FOR CLASS II GAMING

1. The authority citation for Part 543 continues to read as follows:

Authority: 25 U.S.C. 2701 et seq.

2. Section 543.3 is amended by revising paragraph (c)(3) to read as follows:

§ 543.3 How do tribal governments comply with this part?

* * * * *

(c) * * *

(3) Establish a deadline, no later than October 13, 2011, by which a gaming operation must come into compliance with the tribal internal control standards. However, the tribal gaming regulatory authority may extend the deadline by six months if written notice citing justification is provided to the Commission no later than two weeks before the deadline.

* * * * *

Dated: September 7, 2010.
Tracie L. Stevens,
Chairwoman.
Steffani A. Cochran,
Vice-Chairperson.
Daniel Little,
Associate Commissioner.

[FR Doc. 2010-22661 Filed 9-9-10; 8:45 am]

BILLING CODE 7565-01-P